DEPARTMENT OF ENERGY

Federal Energy Regulatory Commission

[Docket No. ER02-2001-000]

Electric Quarterly Reports; Notice of Electric Quarterly Reports Regional Outreach Meetings

August 4, 2004.

The FERC Electric Quarterly Reports (EQR) staff has scheduled regional outreach meetings in Indiana and New York to be held in conjunction with ISO EQR data mapping sessions. On Wednesday, August 18, 2004, FERC EQR staff will hold an EQR Outreach Session for Midwest filers in conjunction with a meeting hosted by the Midwest ISO (MISO) the next day. Both meetings will be held at the Lakeside Conference Center across the street from the MISO's headquarters in Carmel, IN. The FERC EQR Outreach Session will run from 2 p.m. to 5 p.m. (c.s.t.), on Wednesday. Barbara Bourque (EQR Program Manager) and Mark Blazejowski will discuss general ISO data mapping issues and address any other EQR questions or problems that filers have. The Thursday, August 19, 2004, meeting on FERC EQR MISO Reporting will address the details of mapping MISO settlement items to EQR product names. Interested individuals should bring someone from their company who is familiar with the MISO operations and settlement statements.

On Wednesday, August 25, 2004, FERC EQR staff will hold an EQR Outreach Session for New York area filers in conjunction with an EQR Data Mapping meeting hosted by the New York ISO (NY-ISO) the next day. Both meetings will be held at the New York State Nurses Association, located at 11 Cornell Road in Latham, NY. The FERC EQR Outreach Session will run from 3 p.m. to 5 p.m. (e.s.t.), on Wednesday. Barbara Bourque and Mark Blazejowski will discuss general ISO data mapping issues and address any other EQR questions or problems that filers have. The Thursday, August 26, 2004, meeting on EQR Data Mapping will address the details of mapping NY-ISO settlement items to EQR product names. Interested individuals should bring someone from their company who is familiar with the NY-ISO operations and settlement statements.

Those who would like to participate in the August 18th Midwest EQR Outreach Session are asked to register online at FERC by Monday, August 16, 2004, at http://www.ferc.gov/whats-new/registration/eqr-0818-form.asp. Information about the August 19th MISO FERC EQR Reporting meeting, which will be teleconferenced, can be found at http://www.midwestiso.org/calendar/detail.php?meetingID=301. There is no registration required for the MISO mapping meeting on August 19, 2004.

Those who would like to participate in the August 25th NY-ISO EQR Outreach Session are asked to register online at FERC by Monday, August 23, 2004, at http://www.ferc.gov/whats-new/registration/eqr-0825-form.asp. Registration information about the August 26, 2004, EQR Data Mapping Session hosted by NY-ISO will be forthcoming.

Interested persons wishing to file comments may do so under the above-captioned Docket Number. Those filings will be available for review at the Commission or may be viewed on the Commission's Web site at http://www.ferc.gov, using the “eLibrary” link. For assistance, contact FERC Online Support at FERCOnlineSupport@ferc.gov or via phone at (866) 208-3676 (toll-free). For TTY, contact (202) 502-8659.

For additional information, please contact Mark Blazejowski of FERC's Office of Market Oversight and Investigations at (202) 502-6055 or by e-mail, mark.blazejowski@ferc.gov.

Magalie R. Salas,
Secretary.

[FR Doc. E4-1765 Filed 8-10-04; 8:45 am]

BILLING CODE 6717-01-P